BROADCASTING BOARD OF GOVERNORS

Government in the Sunshine Act Meeting Notice

DATE AND TIME: Thursday, April 14, 2011; 4 p.m.

PLACE: Radio Free Asia Headquarters, 2025 M St., NW., Washington, DC 20036.

SUBJECT: Notice of Meeting of the Broadcasting Board of Governors.

SUMMARY: The Broadcasting Board of Governors (BBG) will meet at the time and location listed above. The BBG will receive a Prague trip report, receive and consider a report from the Board's Strategy and Budget Committee on the status of the current regional reviews, receive and consider a report from the Board's Governance Committee on matters pertaining to future Agency organizational structures, receive a report from the International Broadcasting Bureau Director, and receive programming coverage updates by the Voice of America, Radio Free Asia, and the Middle East Broadcasting Networks. The meeting is open to public observation via streamed webcast, both live and on-demand, on the BBG's public Web site at http://www.bbg.gov.

CONTACT PERSON FOR MORE INFORMATION: Persons interested in obtaining more information should contact Paul Kollmer-Dorsey at (202) 203-4545.

Paul Kollmer-Dorsey,
Deputy General Counsel.

[FR Doc. 2011-8673 Filed 4-7-11; 11:15 am]

BILLING CODE 8610-01-P